DEPARTMENT OF DEFENSE

Department of the Army

[Docket ID: USA-2025-HQ-0102]

Submission for OMB Review; Comment Request

AGENCY: Department of the Army, Department of Defense (DoD).

ACTION: 30-Day information collection notice.

SUMMARY: The DoD has submitted to OMB for clearance the following proposal for collection of information under the provisions of the Paperwork Reduction Act.

DATES: Consideration will be given to all comments received by March 4, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Exchange Credit Program; OMB Control Number 0702-0137.

Type of Request: Revision of a currently approved collection.

Number of Respondents: 130,854.

Responses per Respondent: 1.

Annual Responses: 130,854.

Average Burden per Response: 2 minutes.

Annual Burden Hours: 4,362.

Needs and Uses: The Army and Air Force Exchange Service (Exchange) is collecting this information to operate the Military Star credit program. This program is essential for the proper performance of the Exchange's mission as mandated by Title 10 United States Code section 2481, which requires the Exchange to enhance the quality of life for service members and generate earnings to support Family, Morale, Welfare and Recreation (FMWR) programs.

The information is used to determine an applicant's creditworthiness and eligibility for the Military Star card, which facilitates retail and military clothing purchases. For approved applicants, the information is used to manage their account, provide statements, and, if necessary, to collect government debts.

The affected public includes authorized Exchange patrons who voluntarily apply for credit. Without this information collection, the Exchange would be unable to assess credit risk or manage its credit program, hindering its ability to support its patrons and generate funds for critical FMWR programs.

Affected Public: Individuals or households.

Frequency: On occasion.

Respondent's Obligation: Voluntary.

DOD Clearance Officer: Mr. Reginald Lucas.

Dated: January 28, 2026.
Stephanie J. Bost,
Alternate OSD Federal Register Liaison Officer, Department of Defense.

[FR Doc. 2026-01957 Filed 1-30-26; 8:45 am]

BILLING CODE 6001-FR-P